DEPARTMENT OF COMMERCE

Foreign-Trade Zones Board

[Order No. 1764]

Reorganization and Expansion of Foreign-Trade Zone 203 Under Alternative Site Framework, Moses Lake, WA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Port of Moses Lake Public Corporation, grantee of Foreign-Trade Zone 203, submitted an application to the Board (FTZ Docket 56-2010, filed 09/23/2010) for authority to reorganize and expand under the ASF with a service area of Benton, Chelan, Columbia, Douglas, Franklin, Grant, Kittitas, Lincoln and Walla Walla Counties and portions of Okanogan and Yakima Counties, Washington, within and adjacent to the Moses Lake, Washington U.S. Customs and Border Protection port of entry, FTZ 203's existing Site 1 would be categorized as a magnet site, and the grantee proposes two initial usage-driven sites (Sites 2 and 3);

Whereas, notice inviting public comment was given in the Federal Register (75 FR 59688-59689, 09/28/2010) and the application has been processed pursuant to the FTZ Act and the Board's regulations; and,

Whereas, the Board adopts the findings and recommendations of the examiner's report, and finds that the requirements of the FTZ Act and Board's regulations are satisfied, and that the proposal is in the public interest;

Now, Therefore, The Board Hereby Orders:

The application to reorganize and expand FTZ 203 under the alternative site framework is approved, subject to the FTZ Act and the Board's regulations, including Section 400.28, to the Board's standard 2,000-acre activation limit for the overall general-purpose zone project, and to a three-year ASF sunset provision for usage-driven sites that would terminate authority for Sites 2 and 3 if no foreign-status merchandise is admitted for a bona fide customs purpose by May 31, 2014.

Signed at Washington, DC, this 20th day of May 2011.
Ronald K. Lorentzen,
Deputy Assistant Secretary for Import Administration, Alternate Chairman, Foreign-Trade Zones Board.
Attest:
Andrew McGilvray,
Executive Secretary.

[FR Doc. 2011-13572 Filed 5-31-11; 8:45 am]

BILLING CODE 3510-DS-P